DEPARTMENT OF HOUSING AND URBAN DEVELOPMENT

[Docket No. FR-5148-N-02]

Notice of Regulatory Waiver Requests Granted for the Second Quarter of Calendar Year 2007

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2007 and ending on June 30, 2007.

FOR FURTHER INFORMATION CONTACT: For general information about this notice, contact Aaron Santa Anna, Assistant General Counsel for Regulations, Department of Housing and Urban Development, 451 Seventh Street, SW., Room 10276,Washington, DC 20410-0500, telephone (202) 708-3055 (this is not a toll-free number). Persons with hearing- or speech-impairments may access this number through TTY by calling the toll-free Federal Information Relay Service at (800) 877-8339.

For information concerning a particular waiver that was granted and for which public notice is provided in this document, contact the person whose name and address follow the description of the waiver granted in the accompanying list of waivers that have been granted in the second quarter of calendar year 2007.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2007, through June 30, 2007. For ease of reference, the waivers granted by HUD are listed by HUD program office (for example, the Office of Community Panning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2007) before the next report is published (the third quarter of calendar year 2007), HUD will include any additional waivers granted for the third quarter in the next report.

Accordingly, information about approved waiver requests pertaining to HUD regulations is provided in the Appendix that follows this notice.

Dated: September 7, 2007.
Robert M. Couch,
General Counsel.

Appendix—Listing of Waivers of Regulatory Requirements Granted by Offices of the Department of Housing and Urban Development April 1, 2007 through June 30, 2007

Note to Reader: More information about the granting of these waivers, including a copy of the waiver request and approval, may be obtained by contacting the person whose name is listed as the contact person directly after each set of regulatory waivers granted.

The regulatory waivers granted appear in the following order:

I. Regulatory waivers granted by the Office of Community Planning and Development

II. Regulatory waivers granted by the Office of Housing

III. Regulatory waivers granted by the Office of Public and Indian Housing

I. Regulatory Waivers Granted by the Office of Community Planning and Development

For further information about the following regulatory waivers, please see the name of the contact person that immediately follows the description of the waiver granted.

• Regulations: 24 CFR 91.115(c)(2) and 24 CFR 91.115(i).

Project/Activity: The State of Georgia request to waive regulatory requirements at 24 CFR 91.115(c)(2) and 24 CFR 91.115(i).

Nature of Requirement: Section 91.115(c)(2) of HUD's regulations (24 CFR 91.115(c)(2)) require that a minimum of 30 days be allowed for public comment following an amendment to a state's consolidated plan. Section 91.115(i) requires that the state follows its citizen participation plan. Under a state's citizen participation plan, technical assistance is to be given to groups representative of low- and moderate-income persons that request such assistance in developing proposals for funding assistance under any of the programs covered by the consolidated plan, with the level and type of assistance to be determined by the jurisdiction.

Granted By: Pamela H. Patenaude, Assistant Secretary for Community Planning and Development.

Date Granted: April 4, 2007.

Reason Waived: The storms of March 2007 caused significant damage to commercial and residential buildings in the State of Georgia counties of Baker, Clay, Crawford, McDuffie, Mitchell, Muscogee, Stewart, Sumter, Taylor, Warren, Webster, and Wilkinson (disaster-declared areas). The waiver enabled the State of Georgia to quickly respond to the needs of the affected communities by allowing an expedited public comment period (5 days) for any amendments needed for the consolidated or action plan.

Contact: Diane Lobasso, Director, State and Small Cities Division, Office of Block Grant Assistance, Office of Community Planning and Development, Department of Housing and Urban Development, 451 Seventh Street, SW., Room 7184, Washington, DC 20410-7000, telephone (202) 402-2191.

• Regulations: 24 CFR 91.115(c)(2) and 24 CFR 91.115(i).

Project/Activity: The State of Kansas request to waive regulatory requirements at 24 CFR 91.115(c)(2) and 24 CFR 91.115(i).

Nature of Requirement: Section 91.115(c)(2) of HUD's regulations (24 CFR 91.115(c)(2)) require that a minimum of 30 days be allowed for public comment following an amendment to a state's consolidated plan. Section 91.115(i) requires that the state follows its citizen participation plan. Under a state's citizen participation plan, technical assistance is to be given to groups representative of low- and moderate-income persons that request such assistance in developing proposals for funding assistance under any of the programs covered by the consolidated plan, with the level and type of assistance to be determined by the jurisdiction.

Date Granted By: Pamela H. Patenaude, Assistant Secretary for Community Planning and Development.

Granted: May 22, 2007.

Reason Waived: HUD recognized that due to the tornado of May 5, 2007, there was significant damage to most of the City of Greensburg located in Kiowa County, Kansas. The waiver enabled the State of Kansas to quickly respond to the needs of the affected area by allowing an expedited public comment period (3 days) for amendments needed for the consolidated or action plan.

Contact: Diane Lobasso, Director, State and Small Cities Division, Office of Block Grant Assistance, Community Planning and Development, Department of Housing and Urban Development, 451 Seventh Street, SW., Room 7184, Washington, DC 20410-7000, telephone (202) 402-2191.

• Regulations: 24 CFR 92.300(a)(1).

Project/Activity: The City of Yakima, Washington, request to waive 24 CFR 92.300(a)(1) of the HOME regulations.

Nature of Requirement: Section 92.300(a)(1) of the HOME program regulations (24 CFR part 92) permits participating jurisdictions (PJs) to award community housing development organizations (CHDOs) to set-aside funds to limited partnerships that include a qualified CHDO as the managing general partner.

Granted By: Pamela H. Patenaude, Assistant Secretary for Community Planning and Development.

Date Granted: May 14, 2007.

Reasons Waived: The City of Yakima proposed to provide HOME CHDO set-aside funds to Next Step Housing, a CHDO. Next Step Housing would, in turn, provide the funds to a limited liability corporation (LLC) which would own and manage the Pear Tree Place apartments. The CHDO would be the sole managing member of the LLC and would have effective project control over its operations. The PJ asserted that the CHDO had the organizational capacity to manage the project.

Contact: Virginia Sardone, Office of Affordable Housing Programs, Office of Community Planning and Development, Department of Housing and Urban Development, 451 Seventh Street SW., Room 7158, Washington, DC 20410-7000, telephone 202-708-2470.

• Regulation: 24 CFR 570.208(a)(3).

Project/Activity: City of Corpus Christi, Texas, request to waive regulatory requirements of 24 CFR 570.208(a)(3).

Nature of Requirement: The regulation at 24 CFR 570.208(a)(3) requires that at least 51 percent of the units in multifamily residential structures be occupied by low- and moderate-income households. When less than 51 percent of the units in a structure will be occupied by low- and moderate-income households, Community Development Block Grant (CDBG )assistance may be provided in the following limited circumstances provided in 24 CFR 570.208(a)(3)(i): (A) The assistance is for an eligible activity to reduce the development cost of the new construction of a multifamily, non-elderly rental housing project; (B) Not less than 20 percent of the units will be occupied by low- and moderate-income households at affordable rents; and (C) The proportion of the total cost of developing the project to be borne by CDBG funds is no greater than the proportion of units in the project that will be occupied by low- and moderate-income households.

Granted By: Pamela H. Patenaude, Assistant Secretary for Community Planning and Development.

Date Granted: May 4, 2007.

Reason Waived: The city indicated that the two structures assisted with CDBG funds would have less than 51 percent of the rental units occupied by low- and moderate-income households, but not less than the 20 percent required under the exception provision of 24 CFR 570.208(a)(3)(i). Because the activity to be undertaken would be the rehabilitation and conversion of two structures into multifamily housing, the city requested a regulatory waiver of 24 CFR 570.208(a)(3)(i) which applies only to new construction. The CDBG portion of residential development costs would be no greater than the portion of units occupied by low- and moderate-income households.

Contact: Kimberly Crabb, Community Planning and Development Specialist, Office of Block Grant Assistance, Office of Community Planning and Development, Department of Housing and Urban Development, 451 Seventh Street, SW., Room 7282, Washington, DC 20410-5000, telephone (202) 402-4521.

II. Regulatory Waivers Granted by the Office of Housing—Federal Housing Administration (FHA)

For further information about the following regulatory waivers, please see the name of the contact person that immediately follows the description of the waiver granted.

• Regulation: 24 CFR Section 200.217(a)(5).

Project/Activity: FHA Project 117-13003 Moore Medical Center, Moore, Oklahoma

Nature of Requirement: Electronic submission of Previous Participation Certificates HUD-2530).

Granted By: Brian D. Montgomery, Assistant Secretary for Housing—Federal Housing Commissioner.

Date Granted: January 8, 2007.

Reason Waived: A waiver was granted in order to expedite the sale of Moore Medical Center to a new owner. Implementation of an electronic system to which the HUD-2530 applications were submitted was delayed and problematic. A delay in the previous participation clearance process would have increased the risk of a claim. Also, the financial viability of the facility improved by having the new owner-operator take over hospital operations quickly.

Contact: John Whitehead, Director, Program Support Division, Office of Insured Health Care Facilities, Office of Housing, Department of Housing and Urban Development, 451 Seventh Street, SW., Room 9224, Washington, DC 20410-8000, telephone (202) 708-0599.

• Regulation: 24 CFR 203.41(d).

Project/Activity: First Homes Properties, Inc., Rochester, Minnesota.

Nature of Requirement: Section 203.41(b) of HUD's regulations in Title 24 of the Code of Federal Regulations provide that a mortgage shall not be eligible for insurance if the mortgaged property is subject to legal restrictions on conveyance. Exceptions for legal restrictions on conveyance are made for eligible governmental or nonprofit programs designed to promote low- and moderate-income housing, in 24 CFR 203.41(c). Section 203.41(d) specifies that a violation of legal restrictions on conveyance may not be grounds for acceleration of the insured mortgage or for voiding a conveyance of the property, terminating the mortgagor's interest in the property, or subjecting the mortgagor to contractual liability other than requiring repayment of assistance provided to make the property affordable as low-or moderate-income housing.

Granted By: Brian D. Montgomery, Assistant Secretary for Housing—Federal Housing Commissioner.

Date Granted: April 27, 2007.

Reason Waived: The waiver granted pertained to the restriction that a violation of legal restrictions on conveyance may not be grounds for voiding a conveyance of the mortgagor's interest in the property. There is a critical need in the Rochester, Minnesota area for low- and moderate-income housing. This waiver permitted First Homes Properties to void property transfers that are not in accordance with the requirements of the First Homes Ground lease, and acquire the property or otherwise ensure its conveyance to another low-or moderate-income homebuyer.

Contact: Maynard T. Curry, Housing Program and Policy Specialist, Office of Single Family Program Development, Rm. 9266, U. S. Department of Housing and Urban Development, 451 7th Street, SW., Washington, DC 20410.

• Regulation: 24 CFR 206.27(c).

Project/Activity: Insured loan under the Home Equity Conversion Mortgage (HECM) Program.

Nature of Requirement: Section 255 of the National Housing Act establishes the Home Equity Conversion Mortgage Program for Elderly Homeowners. Section 255(j) provides that the Secretary may not insure a home equity conversion mortgage under this section unless the mortgage provides that the homeowner's obligation to satisfy the loan obligation is deferred until the homeowner's death, the sale of the home or the occurrence of other events specified in regulations of the Secretary. HUD's implementing HECM regulations are codified in 24 CFR part 206. Section 206.27(c) specify the other events and provides in part, “The mortgagee shall state that “The mortgage balance will be due and payable in full if a mortgagor dies and the property is not the principal residence of at least one surviving mortgagor.” The regulation clarifies that a homeowner's mortgage balance will be due and payable upon his or her death if the surviving spouse is also not a mortgagor of the property.

Granted By: Brian D. Montgomery, Assistant Secretary for Housing—Federal Housing Commissioner.

Date Granted: May 2007.

Reason Waived: The regulation was waived to allow an elderly spouse to become a mortgagor on an HECM loan, after her husband's death since she met the age requirement.

Contact: Laurie A. Maggiano, Deputy Director, Office of Single Family Asset Management, Rm. 9176, U.S. Department of Housing and Urban Development, 451 7th Street, SW., Washington, DC 20410.

• Regulation: 24 CFR 219.220(b).

Project/Activity: Pittsburgh, Pennsylvania (Fountain Court Consumer Housing Cooperative, Project Numbers 044-44197, 044-55086, 044-55182 and 044-55186). The Detroit Multifamily Hub requested waiver of this regulation to allow for the re-amortization of the outstanding Flexible Subsidy debt with a new mortgage to refinance the mortgages on the properties with a non-insured lender.

Nature of Requirement: HUD regulations at 24 CFR 219.220(b) govern the repayment of assistance provided under the Flexible Subsidy Program for Troubled Projects prior to May 1, 1996, requiring that assistance paid to project owners must be repaid at the earlier of the expiration of the term of the mortgage, termination of mortgage insurance, prepayment of the mortgage or at sale of the project. Section 5.110 of HUD's regulations relates to admission of families to projects for elderly or handicapped families that received reservations under Section 202 of the Housing Act of 1959 and housing assistance under Section 8 of the U.S. Housing Act of 1937.

Granted By: Brian D. Montgomery, Assistant Secretary for Housing—Federal Housing Commissioner.

Date Granted: June 12, 2007.

Reason Waived: The waiver was granted to allow modification of the terms of the flexible subsidy loan to prevent the property falling into serious disrepair. The waiver would allow the amortization of the Flexible Subsidy debt with a new mortgage to refinance the mortgages on the subject property with a non-insured lender. Although the properties have consistently received REAC scores above 60, the properties are 35 years old and require renovations to continue as well-maintained sources of affordable housing. The properties have provided affordable owner-cooperative housing since 1972. The Cooperative has maintained affordability under the Section 236 and 221(d)(3) BMIR program. The Cooperative requested permission to prepay the FHA-insured loans, address the physical needs, fully retire the Flexible Subsidy debt by annual payments of $76,000 scheduled over the new 30-year mortgage; and deposit $100,000 into the Cooperative's Reserve for Replacement account. The Cooperative will continue to operate after prepayment under a new Use Agreement preserving this affordable housing for low- and moderate-income residents until December 1, 2043.

Contact: Beverly J. Miller, Director, Office of Asset Management, Office of Housing, Department of Housing and Urban Development, 451 Seventh Street, SW., Room 6160, Washington, DC 20410-8000; telephone (202) 708-3730.

• Regulation: 24 CFR 401.461.

Project/Activity: The following project listed below requested a waiver to the simple interest requirement on the second mortgage to allow compound interest at the applicable Federal Rate. (24 CFR 401.461):

FHA No. | Project | State
04344088 | Maplewood Apartments | OH

Nature of Requirement: Section 401.461 requires that the second mortgages have an interest rate not more than the applicable Federal Rate. Section 401.461(b)(1) states that interest will accrue but not be compound. The intent of simple interest instead of compound interest is to limit the size of the second mortgage accruals to increase the likelihood of long-term financial and physical integrity.

Granted By: Brian D. Montgomery, Assistant Secretary for Housing—Federal Housing Commissioner.

Date Granted: April 25, 2007.

Reason Waived: This regulatory restriction would be construed as a form of federal subsidy, thereby creating a loss of tax credit equity. This loss would adversely affect the ability to close the Restructuring Plan and could have caused the loss or deterioration of these affordable housing projects. Therefore, compound interest was necessary for the owner to obtain low-income housing tax credits under favorable terms and in order to maximize the savings to the federal government.

Contact: John E. Hall, Office of Affordable Housing Preservation, Department of Housing and Urban Development, 451 Seventh Street, SW., Washington, DC 20410-8000, telephone 202-402-2342.

• Regulation: 24 CFR 401.461.

Project/Activity: The following project listed below requested a waiver to the simple interest requirement on the second mortgage to allow compound interest at the applicable Federal Rate. (24 CFR 401.461):

FHA No. | Project | State
04335178 | Northwood Apartments | OH

Nature of Requirement: Section 401.461 requires that the second mortgages have an interest rate not more than the applicable Federal Rate. Section 401.461(b)(1) states that interest will accrue but not be compound. The intent of simple interest instead of compound interest is to limit the size of the second mortgage accruals to increase the likelihood of long-term financial and physical integrity.

Granted By: Brian D. Montgomery, Assistant Secretary for Housing—Federal Housing Commissioner.

Date Granted: March 12, 2007.

Reason Waived: This regulatory restriction would be construed as a form of federal subsidy, thereby creating a loss of tax credit equity. This loss would adversely affect the ability to close the Restructuring Plan and could have caused the loss or deterioration of these affordable housing projects. Therefore, compound interest was necessary for the owner to obtain low-income housing tax credits under favorable terms and in order to maximize the savings to the federal government.

Contact: John E. Hall, Office of Affordable Housing Preservation, Department of Housing and Urban Development, 451 Seventh Street, SW., Washington, DC 20410-8000, telephone 202-402-2342.

• Regulation: 24 CFR 891.100(d).

Project/Activity: Hillcrest Senior Housing, Daly City, CA, Project Number: 121-EE180/CA39-S051-002.

Nature of Requirement: Section 891.100(d) prohibits amendment of the amount of the approved capital advance funds prior to initial closing.

Granted By: Brian D. Montgomery, Assistant Secretary for Housing-Federal Housing Commissioner.

Date Granted: March 30, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: The Marion Corner Apartments, Carthage, IL, Project Number: 072-EE162/IL06-S051-004.

Nature of Requirement: Section 891.100(d) prohibits amendment of the amount of the approved capital advance funds prior to initial closing.

Granted By: Brian D. Montgomery, Assistant Secretary for Housing-Federal Housing Commissioner.

Date Granted: April 4, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Prairie Achievement Center, Monmouth, IL, Project Number: 072-HD145/IL06-Q051-001.

Nature of Requirement: Section 891.100(d) prohibits amendment of the amount of the approved capital advance funds prior to initial closing.

Granted By: Brian D. Montgomery, Assistant Secretary for Housing-Federal Housing Commissioner.

Date Granted: April 17, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Hickory Estates, Hermitage, MO, Project Number: 084-EE062/MO16-S051-001.

Nature of Requirement: Section 891.100(d) prohibits amendment of the amount of the approved capital advance funds prior to initial closing.

Granted By: Brian D. Montgomery, Assistant Secretary for Housing-Federal Housing Commissioner.

Date Granted: April 25, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Brook Oaks Senior Residences, Waco, TX, Project Number: 113-EE048/TX16-S051-001.

Nature of Requirement: Section 891.100(d) prohibits amendment of the amount of the approved capital advance funds prior to initial closing.

Granted By: Brian D. Montgomery, Assistant Secretary for Housing-Federal Housing Commissioner.

Date Granted: May 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Gulfport Manor, Gulfport, MS, Project Number: 065-EE031/MS26-S001-002.

Nature of Requirement: Section 891.100(d) prohibits amendment of the amount of the approved capital advance funds prior to initial closing.

Granted By: Brian D. Montgomery, Assistant Secretary for Housing—Federal Housing Commissioner.

Date Granted: May 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Capitol Heights Place II, Montgomery, AL, Project Number: 062-EE076/AL09-S051-005.

Nature of Requirement: Section 891.100(d) prohibits amendment of the amount of the approved capital advance funds prior to initial closing.

Granted By: Brian D. Montgomery, Assistant Secretary for Housing—Federal Housing Commissioner.

Date Granted: May 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Black Diamond Hope House, Smyrna, DE, Project Number: 032-HD033/DE26-Q051-001.

Nature of Requirement: Section 891.100(d) prohibits amendment of the amount of the approved capital advance funds prior to initial closing.

Granted By: Brian D. Montgomery, Assistant Secretary for Housing-Federal Housing Commissioner.

Date Granted: May 8, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Reba Brown Senior Residence, Philadelphia, PA, Project Number: 034-EE141/PA26-S051-001.

Nature of Requirement: Section 891.100(d) prohibits amendment of the amount of the approved capital advance funds prior to initial closing.

Granted By: Brian D. Montgomery, Assistant Secretary for Housing-Federal Housing Commissioner.

Date Granted: May 10, 2007.

Reason Waived: The project is economically designed and comparable in cost to similar projects in the area, the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Rogers Supportive Housing, Rogers, MN, Project Number: 092-HD067/MN46-Q051-001.

Nature of Requirement: Section 891.100(d) prohibits amendment of the amount of the approved capital advance funds prior to initial closing.

Granted By: Brian D. Montgomery, Assistant Secretary for Housing-Federal Housing Commissioner.

Date Granted: May 10, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: St. Joseph Garden Courts, Inc., Orlando, FL, Project Number: 067-EE138/FL29-S051-007.

Nature of Requirement: Section 891.100(d) prohibits amendment of the amount of the approved capital advance funds prior to initial closing.

Granted By: Brian D. Montgomery, Assistant Secretary for Housing-Federal Housing Commissioner.

Date Granted: May 14, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Pine Ridge Drive Group Home, Louisa, VA, Project Number: 051-HD130/VA36-Q041-006.

Nature of Requirement: Section 891.100(d) prohibits amendment of the amount of the approved capital advance funds prior to initial closing.

Granted By: Brian D. Montgomery, Assistant Secretary for Housing-Federal Housing Commissioner.

Date Granted: May 18, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: The Water Oaks Incorporated, Reynolds, GA, Project Number: 061-EE149/GA06-S051-002.

Nature of Requirement: Section 891.100(d) prohibits amendment of the amount of the approved capital advance funds prior to initial closing.

Granted By: Brian D. Montgomery, Assistant Secretary for Housing—Federal Housing Commissioner.

Date Granted: May 23, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: LaPalma Apartments, Miami, FL, Project Number: 066-EE093/FL29-S021-014.

Nature of Requirement: Section 891.100(d) prohibits amendment of the amount of the approved capital advance funds prior to initial closing.

Granted By: Brian D. Montgomery, Assistant Secretary for Housing—Federal Housing Commissioner.

Date Granted: May 23, 2007.

Reason Waived: The project is economically designed and the cost appears reasonable as there are no other four unit group homes in the area to compare costs, and the sponsor/owner has exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: ASI Mobile, Mobile, AL, Project Number: 062HD058/AL09-Q051-002.

Nature of Requirement: Section 891.100(d) prohibits amendment of the amount of the approved capital advance funds prior to initial closing.

Granted By: Brian D. Montgomery, Assistant Secretary for Housing—Federal Housing Commissioner.

Date Granted: May 23, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Paschall Senior Housing, Philadelphia, PA, Project Number: 034-EE145/PA26-S051-005.

Nature of Requirement: Section 891.100(d) prohibits amendment of the amount of the approved capital advance funds prior to initial closing.

Granted By: Brian D. Montgomery, Assistant Secretary for Housing—Federal Housing Commissioner.

Date Granted: May 23, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Baldwin Village, Steelton, PA, Project Number: 034-HD088/PA26-Q051-005.

Nature of Requirement: Section 891.100(d) prohibits amendment of the amount of the approved capital advance funds prior to initial closing.

Granted By: Brian D. Montgomery, Assistant Secretary for Housing—Federal Housing Commissioner.

Date Granted: May 23, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Walter Gum Manor, Orange, VA, Project Number: 051-EE101/VA36-S031-005.

Nature of Requirement: Section 891.100(d) prohibits amendment of the amount of the approved capital advance funds prior to initial closing.

Granted By: Brian D. Montgomery, Assistant Secretary for Housing—Federal Housing Commissioner.

Date Granted: May 29, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Applewood III, Lawrence, GA, Project Number: 061-EE155/GA06-S051-008.

Nature of Requirement: Section 891.100(d) prohibits amendment of the amount of the approved capital advance funds prior to initial closing.

Granted By: Brian D. Montgomery, Assistant Secretary for Housing—Federal Housing Commissioner.

Date Granted: June 1, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Developmental Pathways, Incorporated, Aurora, CO, Project Number: 101-HD043/CO99-Q051-004.

Nature of Requirement: Section 891.100(d) prohibits amendment of the amount of the approved capital advance funds prior to initial closing.

Granted By: Brian D. Montgomery, Assistant Secretary for Housing—Federal Housing Commissioner.

Date Granted: June 6, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Maynor Street Group Home, Rocky Mount, VA, Project Number: 051-HD126/VA36-Q041-003.

Nature of Requirement: Section 891.100(d) prohibits amendment of the amount of the approved capital advance funds prior to initial closing.

Granted By: Brian D. Montgomery, Assistant Secretary for Housing—Federal Housing Commissioner.

Date Granted: June 6, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Allegre Point Senior Residences, Incorporated, Decatur, GA, Project Number: 061-EE148/GA06-S051-001.

Nature of Requirement: Section 891.100(d) prohibits amendment of the amount of the approved capital advance funds prior to initial closing.

Granted By: Brian D. Montgomery, Assistant Secretary for Housing—Federal Housing Commissioner.

Date Granted: June 8, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Murphy Lake Apartments, Warrensburg, MO, Project Number: 084-EE065/MO16-S051-004.

Nature of Requirement: Section 891.100(d) prohibits amendment of the amount of the approved capital advance funds prior to initial closing.

Granted By: Brian D. Montgomery, Assistant Secretary for Housing—Federal Housing Commissioner.

Date Granted: June 12, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Burlington Disabled Housing, Burlington, WI, Project Number: 075-HD088/WI39-Q041-007.

Nature of Requirement: Section 891.100(d) prohibits amendment of the amount of the approved capital advance funds prior to initial closing.

Granted By: Brian D. Montgomery, Assistant Secretary for Housing—Federal Housing Commissioner.

Date Granted: June 18, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: White River Senior Housing, Buckley, WA, Project Number: 127-EE055/WA19-S051-005.

Nature of Requirement: Section 891.100(d) prohibits amendment of the amount of the approved capital advance funds prior to initial closing.

Granted By: Brian D. Montgomery, Assistant Secretary for Housing—Federal Housing Commissioner.

Date Granted: June 18, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Parker View Apartments, Project Number: 051-EE103/VA3616-S041-001.

Nature of Requirement: Section 891.100(d) prohibits amendment of the amount of the approved capital advance funds prior to initial closing.

Granted By: Brian D. Montgomery, Assistant Secretary for Housing—Federal Housing Commissioner.

Date Granted: June 18, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: John L. Rankin Senior Living, Russellville, AR, Project Number: 082-EE171/AR37-S051-003.

Nature of Requirement: Section 891.100(d) prohibits amendment of the amount of the approved capital advance funds prior to initial closing.

Granted By: Brian D. Montgomery, Assistant Secretary for Housing—Federal Housing Commissioner.

Date Granted: June 20, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Lafayette VOA Housing, Lafayette, GA, Project Number: 061-HD100/GA06-S051-001.

Nature of Requirement: Section 891.100(d) prohibits amendment of the amount of the approved capital advance funds prior to initial closing.

Granted By: Brian D. Montgomery, Assistant Secretary for Housing—Federal Housing Commissioner.

Date Granted: June 21, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Deer Haven Group Home, Buena Vista, VA, Project Number: 051-HD135/VA36-Q051-002.

Nature of Requirement: Section 891.100(d) prohibits amendment of the amount of the approved capital advance funds prior to initial closing.

Granted By: Brian D. Montgomery, Assistant Secretary for Housing—Federal Housing Commissioner.

Date Granted: June 21, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Supportive Housing Development, Matteson, IL, Project Number: 071-HD147/IL06-Q041-010.

Nature of Requirement: Section 891.100(d) prohibits amendment of the amount of the approved capital advance funds prior to initial closing.

Granted By: Brian D. Montgomery, Assistant Secretary for Housing—Federal Housing Commissioner.

Date Granted: June 26, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Mary Griffith, Heavener, OK, Project Number: 118-HD036/OK56-Q051-005.

Nature of Requirement: Section 891.100(d) prohibits amendment of the amount of the approved capital advance funds prior to initial closing.

Granted By: Brian D. Montgomery, Assistant Secretary for Housing—Federal Housing Commissioner.

Date Granted: June 29, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Sue Littlejohn House, McAlester, OK, Project Number: 118-HD034/OK56-Q051-003.

Nature of Requirement: Section 891.100(d) prohibits amendment of the amount of the approved capital advance funds prior to initial closing.

Granted By: Brian D. Montgomery, Assistant Secretary for Housing—Federal Housing Commissioner.

Date Granted: June 29, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Dana's Garden, Shawnee, OK, Project Number: 117-HD037/OK56-Q061-002.

Nature of Requirement: Section 891.100(d) prohibits amendment of the amount of the approved capital advance funds prior to initial closing.

Granted By: Brian D. Montgomery, Assistant Secretary for Housing—Federal Housing Commissioner.

Date Granted: June 29, 2007.

Reason Waived: The project is economically designed and comparable in cost to similar projects in the area, the sponsor/owner exhausted all efforts to obtain additional funding from other sources and the additional cost was due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.130.

Project/Activity: Nuiqsut, Alaska, Nuiqsut, AK, Project Number: 176-EE033/AK06-S021-008.

Nature of Requirement: Section 891.130 prohibits officers and board members of the project's sponsor and owner from having any financial interest in any contract with the owner or any firm which has a contract with the owner. It also prohibits an identity of interest between the sponsor or owner with development team members or between development team members until two years after final closing.

Granted By: Brian D. Montgomery, Assistant Secretary for Housing—Federal Housing Commissioner.

Date Granted: April 5, 2007.

Reason Waived: The leasing of the site from the Village Corporation, to which all of the directors of the owner have an interest acquired under the Indian Claims Settlement Act, was approved because it is being leased for $1 and there is a lack of suitable sites in the community. The general contractor, of which the Village Corporation owns 51 per cent of the shares, was approved because of the specialized experience of the contractor for constructing in the community, the benefit to the community in providing employment opportunities for the local labor force, and the isolated location of the community.

Contact: Willie Spearmon, Director, Office of Housing Assistance and Grant Administration, Office of Housing, Department of Housing and Urban Development, 451 Seventh Street, SW., Room 6134, Washington, DC 20410-8000, telephone (202) 708-3000.

• Regulation: 24 CFR 891.130.

Project/Activity: Kaktovic, Alaska, Wainwright, AK, Project Number: 176-EE032/AK06-S021-007.

Nature of Requirement: Section 891.130 prohibits officers and board members of the project's sponsor and owner from having any financial interest in any contract with the owner or any firm which has a contract with the owner. It also prohibits an identity of interest between the sponsor or owner with development team members or between development team members until two years after final closing.

Granted By: Brian D. Montgomery, Assistant Secretary for Housing—Federal Housing Commissioner.

Date Granted: April 10, 2007.

Reason Waived: The leasing of the site from the Village Corporation, to which all of the directors of the owner have an interest acquired under the Indian Claims Settlement Act, was approved because it is being leased for $1 and there is a lack of suitable sites in the community. The general contractor, of which the Village Corporation owns 51 percent of the shares, was approved because of the specialized experience of the contractor for constructing in the community, the benefit to the community in providing employment opportunities for the local labor force, and the isolated location of the community.

Contact: Willie Spearmon, Director, Office of Housing Assistance and Grant Administration, Office of Housing, Department of Housing and Urban Development, 451 Seventh Street, SW., Room 6134, Washington, DC 20410-8000, telephone (202) 708-3000.

• Regulation: 24 CFR 891.130.

Project/Activity: Anaktuvuk Pass, Alaska, Anaktuvuk, AK, Project Number: 176-EE030/AK06-S021-005.

Nature of Requirement: Section 891.130 prohibits officers and board members of the project's sponsor and owner from having any financial interest in any contract with the owner or any firm which has a contract with the owner. It also prohibits an identity of interest between the sponsor or owner with development team members or between development team members until two years after final closing.

Granted By: Brian D. Montgomery, Assistant Secretary for Housing—Federal Housing Commissioner.

Date Granted: April 17, 2007.

Reason Waived: The leasing of the site from the Village Corporation, to which all of the directors of the owner have an interest acquired under the Indian Claims Settlement Act, was approved because it is being leased for $1 and there is a lack of suitable sites in the community. The general contractor, of which the Village Corporation owns 51 per cent of the shares, was approved because of the specialized experience of the contractor for constructing in the community, the benefit to the community in providing employment opportunities for the local labor force, and the isolated location of the community.

Contact: Willie Spearmon, Director, Office of Housing Assistance and Grant Administration, Office of Housing, Department of Housing and Urban Development, 451 Seventh Street, SW., Room 6134, Washington, DC 20410-8000, telephone (202) 708-3000.

• Regulation: 24 CFR 891.130.

Project/Activity: Point Hope, Alaska, Point Hope, AK, Project Number: 176-EE029/AK06-S021-004.

Nature of Requirement: Section 891.130 prohibits officers and board members of the project's sponsor and owner from having any financial interest in any contract with the owner or any firm which has a contract with the owner. It also prohibits an identity of interest between the sponsor or owner with development team members or between development team members until two years after final closing.

Granted By: Brian D. Montgomery, Assistant Secretary for Housing—Federal Housing Commissioner.

Date Granted: April 17, 2007.

Reason Waived: The leasing of the site from the Village Corporation, to which all of the directors of the owner have an interest acquired under the Indian Claims Settlement Act, was approved because it is being leased for $1 and there is a lack of suitable sites in the community. The general contractor, of which the Village Corporation owns 51 per cent of the shares, was approved because of the specialized experience of the contractor for constructing in the community, the benefit to the community in providing employment opportunities for the local labor force, and the isolated location of the community.

Contact: Willie Spearmon, Director, Office of Housing Assistance and Grant Administration, Office of Housing, Department of Housing and Urban Development, 451 Seventh Street, SW., Room 6134, Washington, DC 20410-8000, telephone (202) 708-3000.

• Regulation: 24 CFR 891.130.

Project/Activity: Wainwright, Alaska, Wainwright, AK, Project Number: 176-EE031/AK06-S021-006.

Nature of Requirement: Section 891.130 prohibits officers and board members of the project's sponsor and owner from having any financial interest in any contract with the owner or any firm which has a contract with the owner. It also prohibits an identity of interest between the sponsor or owner with development team members or between development team members until two years after final closing.

Granted By: Brian D. Montgomery, Assistant Secretary for Housing—Federal Housing Commissioner.

Date Granted: April 17, 2007.

Reason Waived: The leasing of the site from the Village Corporation, to which all of the directors of the owner have an interest acquired under the Indian Claims Settlement Act, was approved because it is being leased for $1 and there is a lack of suitable sites in the community. The general contractor, of which the Village Corporation owns 51 per cent of the shares, was approved because of the specialized experience of the contractor for constructing in the community, the benefit to the community in providing employment opportunities for the local labor force, and the isolated location of the community.

Contact: Willie Spearmon, Director, Office of Housing Assistance and Grant Administration, Office of Housing, Department of Housing and Urban Development, 451 Seventh Street, SW., Room 6134, Washington, DC 20410-8000, telephone (202) 708-3000.

• Regulation: 24 CFR 891.130(a).

Project/Activity: Victory Cathedral Elderly Housing, Hartford, CT, Project Number: 017-EE098/CT26-S061-002.

Nature of Requirement: Section 891.130(a) prohibits an identity of interest between the Sponsor or Owner with development team members or between development team members until two years after final closing.

Granted By: Brian D. Montgomery, Assistant Secretary for Housing—Federal Housing Commissioner.

Date Granted: April 4, 2007.

Reason Waived: The seller of the land, although a member of the Sponsor's Board, donated the site, with the exception of a $10 transfer fee.

Contact: Willie Spearmon, Director, Office of Housing Assistance and Grant Administration, Office of Housing, Department of Housing and Urban Development, 451 Seventh Street, SW., Room 6134, Washington, DC 20410-8000, telephone (202) 708-3000

• Regulation: 24 CFR 891.100(d) and 24 CFR 891.165.

Project/Activity: Blanche Johnson Courtyards (aka Park Villas Casitas), Tucson, AZ, Project Number: 123-EE098/AZ20-S041-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 17, 2007.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing Urban Development, 451 Seventh Street, SW., Room 6134, Washington DC 20410-8000, telephone (202) 708-3000.

• Regulation: 24 CFR 891.100(d) and 24 CFR 891.165.

Project/Activity: Touchette Elderly Apartments Phase II, East St. Louis, IL, Project Number: 072-EE156/IL06-S041-010.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing—Federal Housing Commissioner.

Date Granted: June 1, 2007.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing Urban Development, 451 Seventh Street, SW., Room 6134, Washington DC 20410-8000, telephone (202) 708-3000.

• Regulation: 24 CFR 891.100(d) and 24 CFR 891.165.

Project/Activity: AHEPA 302 Apartments, San Bernardino, CA, Project Number: 143-EE056/CA43-S041-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing—Federal Housing Commissioner.

Date Granted: June 1, 2007.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing Urban Development, 451 Seventh Street, SW., Room 6134, Washington DC 20410-8000, telephone (202) 708-3000.

• Regulation: 24 CFR 891.100(d) and 24 CFR 891.165.

Project/Activity: Maple House, Harrison, NY, Project Number: 012-HD104/NY36-Q011-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing—Federal Housing Commissioner.

Date Granted: June 18, 2007.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing Urban Development, 451 Seventh Street, SW., Room 6134, Washington DC 20410-8000, telephone (202) 708-3000.

• Regulation: 24 CFR 891.165.

Project/Activity: TBD, Burlington, WI, Project Number: 075-HD088/WI39-Q041-007.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 5, 2007.

Reason Waived: The sponsor/owner needed additional time to review the updated bids and select a contractor, for the firm commitment to be issued, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Aliff Place, Fort Gay, WV, Project Number: 045-HD040/WV15-Q041-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 5, 2007.

Reason Waived: The sponsor/owner needed additional time for the City to obtain the resources to pave the street and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Corozal Hope for the Elderly, Corozal, PR, Project Number: 056-EE064/RQ46-S041-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 5, 2007.

Reason Waived: The sponsor/owner needed additional time to locate another site because the original site was determined to be subject to landslides.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Abilities at English Park, Melbourne, FL, Project Number: 067-HD095/FL29-Q041-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 10, 2007.

Reason Waived: The sponsor/owner needed additional time for initial closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: NCR of Alief II, Houston, TX Project Number: 114-EE120/TX24-S041-008.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 17, 2007.

Reason Waived: The sponsor/owner needed additional time to finalize closing documents and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Gulfport Manor, Gulfport, MS, Project Number: 065-EE031/MS26-S001-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 17, 2007.

Reason Waived: The sponsor/owner needed additional time for the building permit to be obtained and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Supportive Housing Development, Matteson, IL, Project Number: 071-HD147/IL06-Q041-010.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 23, 2007.

Reason Waived: The sponsor/owner needed additional time to finalize closing documents and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Senior Residence at Kapolei, Kapolei, Oahu, Hawaii, Project Number: 140-EE024/HI10-S011-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 25, 2007.

Reason Waived: The sponsor/owner needed additional time for the building permit to be obtained and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Mt. Olive Manor II, Flanders, NJ, Project Number: 031-EE064/NJ39-S041-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: April 30, 2007.

Reason Waived: Due to litigation, the sponsor/owner needed additional time to reach initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Lutheran Social Services of North Florida, Inc., Tallahassee, FL, Project Number: 063-HD021/FL29-Q041-006.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 7, 2007.

Reason Waived: The sponsor/owner needed additional time to secure necessary local approvals from the City, for the firm commitment to be issued, and the project to be initially closed.

Contact: Willie Spearmon, Director, Office of Housing Assistance and Grant

Administration, Office of Housing, Department of Housing and Urban Development, 451 Seventh Street, SW., Room 6134, Washington, DC 20410-8000, telephone (202) 708-3000.

• Regulation: 24 CFR 891.165.

Project/Activity: Magnolia Heights Retirement Community, Mansfield, TX, Project Number: 113-EE036/TX16-S031-003.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 14, 2007.

Reason Waived: The sponsor/owner needed additional time to comply with the City's design and site issues, for the firm commitment to be issued, and the project to be initally closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Luther Ridge, Oregon, OH, Project Number: 042-EE185/OH12-S041-021.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 14, 2007.

Reason Waived: The sponsor/owner needed additional time to finalize the initial closing documents and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Wade Chateau, Cleveland, OH, Project Number: 042-EE168/OH12-S041-004.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 14, 2007.

Reason Waived: The sponsor/owner needed additional time for the mixed finance project to meet the underwriting criteria of multiple funding sources and for the initial closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Mountain Valley Haven III, Hayfork, CA, Project Number: 136-EE076/CA30-S041-003.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 14, 2007.

Reason Waived: The sponsor/owner needed additional time to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Renaissance Court, Wilsonville, OR, Project Number: 126-HD039/OR16-Q041-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 14, 2007.

Reason Waived: Additional time was needed to meet the City's redevelopment requirements, for the firm commitment to be issued, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Kleeman Village, Clinton, IL, Project Number: 072-HD144/IL06-Q041-008.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 16, 2007.

Reason Waived: The sponsor/owner needed additional time for initial closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: VOA Sandusky, Sandusky, OH, Project Number: 042-HD110/OH12-Q021-008.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 18, 2007.

Reason Waived: The sponsor/owner needed additional time to finalize the initial closing and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Utuqqanaaqagvik Senior Housing, Nuiqsut, AK, Project Number: 176-EE033/AK06-S021-008.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 23, 2007.

Reason Waived: The sponsor/owner needed additional time to secure additional funding and submit the necessary updated firm commitment and initial closing documents.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Kaktovik Senior Housing, Kaktovik, AK Project Number: 176-EE032/AK06-S021-007.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 23, 2007.

Reason Waived: The sponsor/owner needed additional time to secure additional funding and submit the necessary updated firm commitment and initial closing documents.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Olgonikgum Uttuganaknich Senior Housing, Wainwright, AK, Project Number: 176-EE031/AK06-S021-006.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 23, 2007.

Reason Waived: The sponsor/owner needed additional time to secure additional funding and submit the necessary updated firm commitment and initial closing documents.

Contact: Willie Spearmon, Director, Office of Housing Assistance and Grant

Administration, Office of Housing, Department of Housing and Urban Development, 451 Seventh Street, SW., Room 6134, Washington, DC 20410-8000, telephone (202) 708-3000.

• Regulation: 24 CFR 891.165.

Project/Activity: Aaniyak Senior Housing, Anaktuvuk Pass, AK

Project Number: 176-EE030/AK06-S021-005.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 23, 2007.

Reason Waived: The sponsor/owner needed additional time to secure additional funding and submit the necessary updated firm commitment and initial closing documents.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Tikigaqmiut Senior Housing, Point Hope, AK

Project Number: 176-EE030/AK06-S021-005.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: May 23, 2007.

Reason Waived: The sponsor/owner needed additional time to secure additional funding and submit the necessary updated firm commitment and initial closing documents.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Loudon VOANNE Senior Housing, Loudon, NH, Project Number: 024-EE076/NH36-S041-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: June 5, 2007.

Reason Waived: The sponsor/owner needed additional time to resolve issues involving the APPS system and approval of the 2530's clearance issues, for the firm commitment, and for the project to reach initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Abilities at Eagles Nest, Lakeland, FL, Project Number: 067-HD096/FL29-Q041-003.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: June 8, 2007.

Reason Waived: The sponsor/owner needed additional time for initial closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: B'nai B'rith Apartments of Deerfield Beach III, Deerfield Beach, FL, Project Number: 066-EE102/FL29-S041-005.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: June 18, 2007.

Reason Waived: The sponsor/owner needed additional time for a cross easement access issue to be resolved, the building permit to be issued, the insurance coverage to be re-negoitated, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Sartell Senior Housing, Sartell, MN, Project Number: 092-EE107/MN46-S051-001.

Nature of Requirement: Section 891.205 requires Section 202 project owners to have tax exemption status under Section 501(c)(3) or (c)(4) of the Internal Revenue Code.

Granted By: Brian D. Montgomery, Assistant Secretary for Housing—Federal Housing Commissioner.

Date Granted: May 10, 2007.

Reason Waived: The required tax-exemption ruling from the Internal Revenue Service (IRS) was to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: ASI Brookings, Brookings, SD, Project Number: 091-EE010/SD99-S051-002.

Nature of Requirement: Section 891.205 requires Section 202 project owners to have tax exemption status under Section 501(c)(3) or (c)(4) of the Internal Revenue Code.

Granted By: Brian D. Montgomery, Assistant Secretary for Housing—Federal Housing Commissioner.

Date Granted: June 12, 2007.

Reason Waived: The required tax-exemption ruling from IRS was to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Sioux Falls 57 Good Samaritan Housing, Incorporated, Sioux Falls, SD, Project Number: 091-EE009/SD099-S051-001.

Nature of Requirement: Section 891.205 requires Section 202 project owners to have tax exemption status under Section 501(c)(3) or (c)(4) of the Internal Revenue Code.

Granted By: Brian D. Montgomery, Assistant Secretary for Housing—Federal Housing Commissioner.

Date Granted: June 21, 2007.

Reason Waived: The required tax-exemption ruling from IRS was to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.305.

Project/Activity: Rogers Supportive Housing, Rogers, MN, Project Number: 092-HD067?MN46-Q051-001.

Nature of Requirement: Section 891.305 requires Section 811 project owners to have tax-exempt status under Section 501(c)(3) of the Internal Revenue Code.

Granted By: Brian D. Montgomery, Assistant Secretary for Housing—Federal Housing Commissioner.

Date Granted: May 10, 2007.

Reason Waived: The required tax-exemption ruling from IRS was to be issued, but not in time for the scheduled initial closing of the project.

Contact: Willie Spearmon, Director, Office of Housing Assistance and Grant Administration, Office of Housing, Department of Housing and Urban Development, 451 Seventh Street, SW., Room 6134, Washington, DC 20410-8000, telephone (202) 798-3000.

• Regulation: 24 CFR 891.305.

Project/Activity: Serviam Gardens, Bronx, NY, Project Number: 012-EE353/NY36-S061-009.

Nature of Requirement: Section 891.305 requires that the sole general partner of the mixed finance owner be a private nonprofit organization with a section 501(c)(3) or 501(c)(4) tax exemption (in the case of supportive housing for the elderly), or a nonprofit organization with a 501(c)(3) (in the case of supportive housing for persons with disabilities).

Granted By: Brian D. Montgomery, Assistant Secretary for Housing—Federal Housing Commissioner.

Date Granted: June 14, 2007.

Reason Waived: State law does not permit a not-for-profit corporation to act as a partner in a partnership. The permitted arrangement of having the sole general partner wholly owned and controlled by a nonprofit organization complied with the statutory requirements for the sole general partner in a mixed-finance transaction.

Contact: Willie Spearmon, Director, Office of Housing Assistance and Grant Administration, Office of Housing, Department of Housing and Urban Development, 451 Seventh Street, SW., Room 6134, Washington, DC 20410-8000, telephone (202) 798-3000.

• Regulation: 24 CFR 891.305.

Project/Activity: Presbyterian Senior Housing, Queens, NY, Project Number: 012-EE346/NY36-S061-002.

Nature of Requirement: Section 891.305 requires that the sole general partner of the mixed finance owner be a private nonprofit organization with a section 501(c)(3) or 501(c)(4) tax exemption (in the case of supportive housing for the elderly), or a nonprofit organization with a 501(c)(3) (in the case of supportive housing for persons with disabilities).

Granted By: Brian D. Montgomery, Assistant Secretary for Housing—Federal Housing Commissioner.

Date Granted: June 14, 2007.

Reason Waived: State law does not permit a not-for-profit corporation to act as a partner in a partnership. The permitted arrangement of having the sole general partner wholly owned and controlled by a nonprofit organization complied with the statutory requirements for the sole general partner in a mixed-finance transaction.

Contact: Willie Spearmon, Director, Office of Housing Assistance and Grant Administration, Office of Housing, Department of Housing and Urban Development, 451 Seventh Street, SW., Room 6134, Washington, DC 20410-8000, telephone (202) 798-3000.

• Regulation: 24 CFR 891.305.

Project/Activity: Common Ground, Brooklyn, NY, Project Number: 012-EE338/NY36-S051-004.

Nature of Requirement: Section 891.305 requires that the sole general partner of the mixed finance owner be a private nonprofit organization with a section 501(c)(3) or 501(c)(4) tax exemption (in the case of supportive housing for the elderly), or a nonprofit organization with a 501(c)(3) (in the case of supportive housing for persons with disabilities).

Granted By: Brian D. Montgomery, Assistant Secretary for Housing-Federal Housing Commissioner.

Date Granted: June 14, 2007.

Reason Waived: State law does not permit a not-for-profit corporation to act as a partner in a partnership. The permitted arrangement of having the sole general partner wholly owned and controlled by a nonprofit organization complied with the statutory requirements for the sole general partner in a mixed-finance transaction.

Contact: Willie Spearmon, Director, Office of Housing Assistance and Grant Administration, Office of Housing, Department of Housing and Urban Development, 451 Seventh Street, SW., Washington, DC 20410-8000, telephone (202) 798-3000.

• Regulation: 24 CFR 891.305.

Project/Activity: Morris Heights/Mt. Hope Senior Housing, Bronx, NY, Project Number: 012-EE332/NY36-S041-002.

Nature of Requirement: Section 891.305 requires that the sole general partner of the mixed finance owner be a private nonprofit organization with a section 501(c)(3) or 501(c)(4) tax exemption (in the case of supportive housing for the elderly), or a nonprofit organization with a 501(c)(3) (in the case of supportive housing for persons with disabilities).

Granted By: Brian D. Montgomery, Assistant Secretary for Housing-Federal Housing Commissioner.

Date Granted: June 14, 2007.

Reason Waived: State law does not permit a not-for-profit corporation to act as a partner in a partnership. The permitted arrangement of having the sole general partner wholly owned and controlled by a nonprofit organization complied with the statutory requirements for the sole general partner in a mixed-finance transaction.

Contact: Willie Spearmon, Director, Office of Housing Assistance and Grant Administration, Office of Housing, Department of Housing and Urban Development, 451 Seventh Street, SW., Room 6134, Washington, DC 20410-8000, telephone (202) 798-3000.

• Regulation: 24 CFR 891.305.

Project/Activity: Surf Gardens, Brooklyn, NY, Project Number: 012-EE330/NY36-S031-003.

Nature of Requirement: Section 891.305 requires that the sole general partner of the mixed finance owner be a private nonprofit organization with a section 501(c)(3) or 501(c)(4) tax exemption (in the case of supportive housing for the elderly), or a nonprofit organization with a 501(c)(3) (in the case of supportive housing for persons with disabilities).

Granted By: Brian D. Montgomery, Assistant Secretary for Housing-Federal Housing Commissioner.

Date Granted: June 14, 2007.

Reason Waived: State law does not permit a not-for-profit corporation to act as a partner in a partnership. The permitted arrangement of having the sole general partner wholly owned and controlled by a nonprofit organization complied with the statutory requirements for the sole general partner in a mixed-finance transaction.

Contact: Willie Spearmon, Director, Office of Housing Assistance and Grant Administration, Department of Housing and Urban Development, 451 Seventh Street, SW., Room 6134, Washington, DC 20410-8000, telephone (202) 798-3000.

• Regulation: 24 CFR 891.410(c).

Project/Activity: Strawberry, Arkansas (Strawberry Fields Apartments—FHA Project Number 082-EE140). The Fort Worth Multifamily Hub requested waiver of the very low-income limit to alleviate occupancy problems at the property and stabilize the project's current financial status.

Nature of Requirement: HUD regulations at 24 CFR 891 require occupancy to be limited to very low-income (VLI) elderly persons (i.e., households composed of one or more persons at least one of whom is 62 years of age at the time of initial occupancy). Regulations also require that an owner is to determine the eligibility in selecting tenants.

Granted By: Frank L. Davis, General Deputy Assistant Secretary for Housing-Deputy Federal Housing Commissioner.

Date Granted: June 18, 2007.

Reason Waived: The waiver was granted to permit admission of lower-income (income between 51 and 80 percent of median), elderly applicants when there are no very low-income elderly applicants to fill vacant units. The market analysis indicates that there is insufficient effective demand to fill the complex with very low-income elderly. The management agent continues to conduct extensive advertising and outreach programs, including marketing the property with the local housing authority. The property currently has 3 vacant units and no waiting list. Granting the waiver will allow the flexibility to offer units to individuals who meet the definition of lower income elderly and, thus, the owner will be able to increase occupancy levels and prevent foreclosure.

Contact: Beverly J. Miller, Director, Office of Asset Management, Office of Housing, Department of Housing and Urban Development, 451 Seventh Street, SW., Room 6160, Washington, DC 20410-8000, telephone (202) 708-3730.

III. Regulatory Waivers Granted by the Office of Public and Indian Housing

For further information about the following regulatory waivers, please see the name of the contact person that immediately follows the description of the waiver granted.

• Regulation: 24 CFR 5.801.

Project/Activity: Baltimore County Department of Social Services (MD033), Baltimore, MD.

Nature of Regulation: The regulation establishes certain reporting compliance dates, namely, the audited financial statements are required to be submitted no later than nine months after the housing agency's fiscal year end (FYE), in accordance with the Single Audit Act and Office of Management and Budget (OMB) Circular A-133 and 24 CFR 5.801.

Granted By: Orlando J. Cabrera, Assistant Secretary for Public and Indian Housing.

Date Granted: June 13, 2007.

Reason Waived: The Baltimore County Department of Social Services (HA) received a waiver of its audited financial submission due date of March 31, 2007, for FYE June 30, 2006. The Baltimore County Housing Office is the agent administering over 5,700 rent subsidies under their Housing Choice Voucher Program and the Section 8 Moderate Rehabilitation Program on behalf of the Baltimore County government. The HA has maintained its financial books in relation to the County's system of accounts, complying with reporting requirements to HUD's Financial Management Center. In coordination with Baltimore County's Finance Office, the HA has taken action to bring its accounts into compliance with the Uniform Financial Reporting Standards (UFRS). In the process, the staff encountered issues understanding the complexity of the system and the various requirements, as well as issues coordinating with the County's financial procedures. For these reasons, and to accurately and completely prepare their first submission, the HA was granted a 60-day waiver extension until May 31, 2007.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Buffalo Municipal Housing Authority (NY449), Buffalo, NY.

Nature of Requirement: The regulation establishes certain reporting compliance dates, namely, the audited financial statements are required to be submitted no later than nine months after the housing agency's fiscal year end (FYE), in accordance with the Single Audit Act and Office of Management and Budget (OMB) Circular A-133 and 24 CFR 5.801.

Granted By: Orlando J. Cabrera, Assistant Secretary for Public and Indian Housing.

Date Granted: April 18, 2007.

Reason Waived: The Buffalo Municipal Housing Authority (HA), a Section 8-only entity, received a waiver of the audited financial reporting requirements due date for FYE June 30, 2006, because there was some confusion with the program needing a separate audit. In previous years, the financial information had been included in the HA's A-133 audit and was listed as a separate column on the financial data schedule submission. The role of the HA in this program has changed from being a “pass through” for the City of Buffalo to its actual administrator. The HA procured the services of an auditor, but the audit field work was not completed by the March 31, 2007, due date. Upon receipt of the completed audit, the HA will submit the information to the Financial Assessment Subsystem.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Fulton County Housing Authority (PA072), McConnellsburg, PA.

Nature of Regulation: The regulation establishes certain reporting compliance dates, namely, the audited financial statements are required to be submitted no later than nine months after the housing agency's fiscal year end (FYE), in accordance with the Single Audit Act and Office of Management and Budget (OMB) Circular A-133 and 24 CFR 5.801.

Granted By: Orlando J. Cabrera, Assistant Secretary for Public and Indian Housing.

Date Granted: June 26, 2007.

Reason Waived: The Fulton County Housing Authority (HA) received a waiver of the due date to submit its audited financial data for FYE March 31, 2006. The HA's initial submission was rejected due to numerous issues resulting in a current status of failure to submit (FTS). The HA's entire staff has resigned, and four of the five board members have also resigned and have been replaced since the submission of the audited financial data in July 2006. Additionally, the auditor responsible for the audit has been unresponsive to the Board and the concerns raised by the local HUD Office. Consequently, HUD's Office of the Inspector General is investigating the possibility that the financial statements were fraudulent because of lack of confidence in the accuracy of the financial statements. The waiver provided additional time to August 30, 2007, for the HA to submit its audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: County of Hawaii Office of Housing and Community Development (HI002), Hilo, HI.

Nature of Regulation: The regulation establishes certain reporting compliance dates, namely, the audited financial statements are required to be submitted no later than nine months after the housing agency's fiscal year end (FYE), in accordance with the Single Audit Act and Office of Management and Budget (OMB) Circular A-133 and 24 CFR 5.801.

Granted By: Orlando J. Cabrera, Assistant Secretary for Public and Indian Housing.

Date Granted: June 26, 2007.

Reason Waived: The County of Hawaii Office of Housing and Community Development (HA) received a waiver because the staff accountants and auditors have been unable to reconcile their beginning fund balance for FYEs June 30, 2005 and June 30, 2006. Additionally, in October 2006, the state of Hawaii was hit by a severe earthquake, resulting in significant destruction of property, including data and computer systems. The severity of loss required staff to divert its attention and energies to work with other government agencies, including the Federal Emergency Management Agency. The waiver provided additional time to submit the audited financial data by July 13, 2007, for FYs 2005 and 2006.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Montana Department of Commerce (MT901), Helena, MN.

Nature of Requirement: The regulation establishes certain reporting compliance dates, namely, the audited financial statements are required to be submitted no later than nine months after the housing agency's fiscal year End (FYE), in accordance with the Single Audit Act and Office of Management and Budget (OMB) Circular A-133 and 24 CFR 5.801.

Granted By: Orlando J. Cabrera, Assistant Secretary for Public and Indian Housing.

Date Granted: June 12, 2007.

Reason Waived: The Montana Department of Commerce (HA), a Section 8 only entity, received a waiver of the audited financial submission due date for FYE June 30, 2006. The HA falls under the single audit requirements of the OMB A-133 and does not conduct a separate audit. The HA's audit is to be completed through the State of Montana Legislative Audit Division's audit covering a two-year period (July 1, 2005-June 30, 2007). Therefore, the HA expects the audit report to be completed around December 2007, but no later than the required due date of March 31, 2008. The waiver provided the additional time required to complete the audit.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: New Jersey Housing and Mortgage Finance Agency (NJ902), Trenton, NJ.

Nature of Regulation: The regulation establishes certain reporting compliance dates, namely, the audited financial statements are required to be submitted no later than nine months after the housing agency's fiscal year end (FYE), in accordance with the Single Audit Act and Office of Management and Budget (OMB) Circular A-133 and 24 CFR 5.801.

Granted By: Orlando J. Cabrera, Assistant Secretary for Public and Indian Housing.

Date Granted: April 18, 2007.

Reason Waived: The New Jersey Housing and Mortgage Finance Agency (HA0 received a waiver of the audited financial submission due date for FYE March 31, 2006. The Agency's Housing Choice Voucher Program's FYE is March 31, 2006, however, the FYE for HA, a non-profit organization, is June 30, 2006. The waiver was granted because the Primary Reporting Entity's (New Jersey Housing & Mortgage Finance Agency) FYE is different than the Housing Choice Voucher Program's FYE causing a conflict with the audited submission requirements.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.33.

Project/Activity: Housing Authority of Jefferson Parish (LA013), Marrero, LA.

Nature of Regulation: The regulation establishes certain reporting compliance dates; namely, the unaudited financial statements are required to be submitted within two months after the housing authority's FYE and the audited financial statements are required to be submitted no later than nine months after the housing authority's FYE, in accordance with the Single Audit Act and OMB Circular A-133, and 24 CFR 902.33.

Granted By: Orlando J. Cabrera, Assistant Secretary for Public and Indian Housing.

Date Granted: June 12, 2007.

Reason Waived: The Housing Authority of Jefferson Parish (HA) received a waiver of its unaudited financial submission extension due date for FYE September 30, 2006, because the fee accountant had a family crisis requiring her immediate attention for a few months. The waiver granted the HA additional time to May 31, 2007 to submit its unaudited financial submission.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.33.

Project/Activity: Mamou Housing Authority (LA031), Mamou, LA.

Nature of Regulation: The regulation establishes certain reporting compliance dates; namely, the audited financial statements are required to be submitted no later than nine months after the housing authority's FYE, in accordance with the Single Audit Act and OMB Circular A-133, and 24 CFR 902.33.

Granted By: Orlando J. Cabrera, Assistant Secretary for Public and Indian Housing.

Date Granted: June 11, 2007.

Reason Waived: The Mamou Housing Authority (HA) received a waiver of the due date to submit its audited financial submission for FYE June 30, 2006. The waiver granted the invalidation of the submission and provided the HA the opportunity to resubmit its audited financial submission.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.33.

Project/Activity: Kent County Housing Commission (MI198), Grand Rapids, MI.

Nature of Requirement: The regulation establishes certain reporting compliance dates; namely, the audited financial statements are required to be submitted no later than nine months after the housing authority's FYE, in accordance with the Single Audit Act and OMB Circular A-133, and 24 CFR 902.33.

Granted By: Orlando J. Cabrera, Assistant Secretary for Public and Indian Housing.

Date Granted: April 17, 2007.

Reason Waived: The Kent County Housing Commission (HA) received a waiver of the audited financial submission due date because it does not conduct a separate audit and because it is under the auspices of the County of Kent, and is subject to the single audit requirements of OMB Circular A-133. The HA's FYE is June 30, 2006, and the County of Kent's FYE is December 31, 2006. The A-133 audit report will be completed by late summer 2007. Upon receipt of the completed audit for the program for FYE June 30, 2006, the HA will submit the audited financial information.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.33.

Project/Activity: Conyers Housing Authority (GA184), Conyers, GA.

Nature of Requirement: The regulation establishes certain reporting compliance dates; namely, the audited financial statements are required to be submitted no later than nine months after the housing authority's FYE, in accordance with the Single Audit Act and OMB Circular A-133, and 24 CFR 902.33.

Granted By: Orlando J. Cabrera, Assistant Secretary for Public and Indian Housing.

Date Granted: April 17, 2007.

Reason Waived: The Conyers Housing Authority (HA) received a waiver of the audited financial submission due date of March 31, 2007, for FYE June 30, 2006, because the Board of Commissioners underwent a major transition with staff employees who were placed on investigatory suspension, pending the results of an investigation into financial irregularities. Based on results of a forensic audit, the Board decided against using the audit firm that had previously done the audit and retained the services of another auditor. The newly appointed auditor did not have sufficient time to properly provide a comprehensive annual audit to HUD by the March 31, 2007, deadline. The HA was granted a six-month extension to September 30, 2007, to submit its audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.33.

Project/Activity: San Diego Housing Commission (CA063), San Diego, CA.

Nature of Requirement: The regulation establishes certain reporting compliance dates; namely, the audited financial statements are required to be submitted no later than nine months after the housing authority's FYE, in accordance with the Single Audit Act and OMB Circular A-133, and 24 CFR 902.33.

Granted By: Orlando J. Cabrera, Assistant Secretary for Public and Indian Housing.

Date Granted: April 18, 2007.

Reason Waived: The San Diego Housing Commission (HA) received a waiver of its audited financial submission due date of March 31, 2007, for FYE June 30, 2006. The HA is a component of the City of San Diego and its financial information is presented with the City's Comprehensive Annual Report. During February 2005, the HA was allowed to procure its own auditor due to irregularities noted in the City's Bond Disclosure documents. As a result, the audit is still in progress and the HA believes that the audit document will not be ready in time for submission to HUD.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.60(d) and 24 CFR 902.60(e).

Project/Activity: Ozark Housing Authority (AL073), Ozark, AL.

Nature of Requirement: The regulation establishes annual certification requirements for management operations and resident satisfaction surveys.

Granted By: Orlando J. Cabrera, Assistant Secretary for Public and Indian Housing.

Date Granted: June 7, 2007.

Reason Waived: The Ozark Housing Authority (HA) requested a waiver to have more resources to concentrate on organizational, procedural and software changes to convert to asset management. The HA received a waiver from compliance with the requirements of 24 CFR 902.60(d), to submit a management operations certification, and 24 CFR 902.60(e), from the resident satisfaction survey, for the fiscal years ending March 31, 2007 and March 31, 2008. HUD will carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Knoxville Housing Authority (TN111), Knoxville, TN.

Nature of Requirement: The regulation establishes annual certification requirements for management operations and resident satisfaction surveys.

Granted By: Orlando J. Cabrera, Assistant Secretary for Public and Indian Housing.

Date Granted: June 7, 2007.

Reason Waived: The Knoxville Housing Authority (HA) requested a waiver to have more resources to concentrate on organizational, procedural and software changes to convert to asset management. The HA received a waiver from compliance with the requirements of 24 CFR 902.60(d), to submit a management operations certification, and 24 CFR 902.60(e), from the resident satisfaction survey, for the fiscal year ending March 31, 2007. HUD will carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Housing Authority of the City of Harlingen (TX065), Harlingen, TX.

Nature of Requirement: The regulation establishes annual certification requirements for management operations and resident satisfaction surveys.

Granted By: Orlando J. Cabrera, Assistant Secretary for Public and Indian Housing.

Date Granted: June 11, 2007.

Reason Waived: The Housing Authority of the City of Harlingen (HA) requested a waiver to have more resources to concentrate on organizational, procedural and software changes to convert to asset management. The HA received a waiver from compliance with the requirements of 24 CFR 902.60(d), to submit a management operations certification, and 24 CFR 902.60(e), from the resident satisfaction survey, for the fiscal year ending March 31, 2007. HUD will carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: West Palm Beach Housing Authority (FL009), West Palm Beach, FL.

Nature of Requirement: The regulation establishes annual certification requirements for management operations and resident satisfaction surveys.

Granted By: Orlando J. Cabrera, Assistant Secretary for Public and Indian Housing.

Date Granted: June 26, 2007.

Reason Waived: The West Palm Beach Housing Authority (HA) requested a waiver to have more resources to concentrate on organizational, procedural and software changes to convert to asset management. The HA received a waiver from compliance with the requirements of 24 CFR 902.60(d), to submit a management operations certification, and 24 CFR 902.60(e), from the resident satisfaction survey, for the fiscal year ending March 31, 2007. HUD will carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 941.606(n)(l)(ii)(B).

Project/Activity: Daytona Beach Housing Authority, Daytona Beach, Florida; Pine Haven and the Bethune Village/Halifax Park HOPE VI Project.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: April 18, 2007.

Reason Waived: The Daytona Beach Housing Authority (DBHA) selected Picerne Construction Corporation as the general contractor for Pine Haven, an on-site component of the Bethune Village/Halifax Park HOPE VI project. Picerne Affordable Development, LLC (Picerne) is the master developer for the Bethune Village/Halifax Park HOPE VI site. Picerne is also the component developer for the Pine Haven phase of the HOPE VI project. Picerne Construction Corporation will use a competitive process to engage the subcontractors needed to construct the project. Picerne Construction Corporation has served as the general contractor for all Picerne projects. The basis for the waiver is that the DBHA is on an accelerated schedule from both HUD and the State Housing Finance Agency to complete its HOPE VI project. Picerne Construction Corporation's involvement is essential to ensuring timely development, within budget. As a requirement, DBHA submitted an independent cost estimate by Benchmark Estimating Services, Inc. for Pine Haven, which estimates totaled $15,429,734. DBHA also submitted the executed construction contract between Picerne Construction Corporation and Pine Haven Housing, Ltd., LLLP, the ownership entity for Pine Haven, which includes Picerne, which totaled $14, 865,035 for construction of Pine Haven. As Picerne Construction Corporation's cost was below that of the independent cost estimate, HUD's condition was satisfied.

Contact: Dominique Blom, Deputy Assistant Secretary for the Office of Public Housing Investments, Office of Public and Indian Housing, Department of Housing and Urban Development, 451 Seventh Street, SW., Room 4130, Washington, DC 20410-5000, telephone (202) 402-4181.

• Regulation: 24 CFR 941.606(n)(l)(ii)(B).

Project/Activity: Municipal Housing Authority of the City of Utica, Washington; Washington Courts, Phase III (Rutger Manor).

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: June 5, 2007.

Reason Waived: The Municipal Housing Authority of the City of Utica (UMHA) procured Housing Visions Unlimited, Inc. (Developer) as the master developer for its Washington Courts HOPE VI revitalization efforts, including Phase III, Rutger Manor. The waiver enabled Housing Visions Construction Company, Inc. (Contractor), which is owned by the same individuals as the Developer, to serve as the general contractor for Phase III. The Contractor did not bid to become the general contractor, as specified by this provision, but UMHA has demonstrated that the construction costs are reasonable and are within applicable HUD cost limits. The basis for the waiver was determined by the experience of the Developer and Contractor and their record of successful project completions in the Central New York area. Scattered sites, such as this one, are frequently difficult to manage. Close coordination between the Developer and Contractor will be required in order to complete this scattered-site project on time and within budget. This affiliated relationship will provide a greater incentive to overcome adverse circumstances that are frequently encountered during the construction process. To ensure that this project's construction costs were reasonable, UMHA procured the services of a third-party construction cost-estimating firm. UMHA chose Baer and Associates (Baer) to conduct an independent third-party construction cost estimate. Baer's estimate totaled $5,903,777. The project's construction contract and schedule of values showed a construction cost of $5,707,588, which is less than Baer's estimate. As project construction cost was below that of the independent cost estimate, HUD's condition was satisfied.

Contact: Dominique Blom, Deputy Assistant Secretary for the Office of Public Housing Investments, Office of Public and Indian Housing, Department of Housing and Urban Development, 451 Seventh Street, SW., Washington, Room 4130, DC 20410-5000, telephone (202) 402-4181.

• Regulation: 24 CFR 941.610(a)(1)-(a)(7).

Project/Activity: Tacoma Housing Authority (THA), Tacoma, Washington; Closing of Salishan Four.

Nature of Requirement: The provision requires HUD review and approval of certain legal documents relating to mixed-finance development before a closing can occur and funds can be released. In lieu of HUD's review, and before funds can be released, the public housing authority (PHA) must submit documentation which certifies, in form specified by HUD, to the accuracy and authenticity of the legal documents detailed in 24 CFR 941.610(a)(1)-(a)(7). Granting a waiver or HUD's review and allowing the PHA to certify to the validity of certain legal documents will streamline the review process and expedite closing and public production.

Granted By: Orlando J. Cabrera, Assistant Secretary for Public and Indian Housing.

Date Granted: June 4, 2007.

Reason Waived: The basis for the waiver was because THA is a high performing housing authority with extensive development and mixed-finance experience. Salishan Four is the fourth rental phase in THA's overall HOPE VI development, which includes six rental phases and three homeownership phases. The Salishan Four proposal includes 45 tax credit/public housing replacement units and 45 Section 8 project-based units. Salishan Four is a near duplicate of Salishan One, Two and Three, which were exhaustively reviewed and approved by HUD. These justifications determine that good cause existed for granting the waiver.

Contact: Dominique Blom, Deputy Assistant Secretary for the Office of Public Housing Investments, Office of Public and Indian Housing, Department of Housing and Urban Development, 451 Seventh Street, SW., Room 4130, Washington, DC 20410-5000, telephone (202) 402-4181.

• Regulation: 24 CFR 941.610(a)(1)-(a)(7).

Project/Activity: Housing Authority of the City of Milwaukee (HACM), MN; Closing of Convent Hill.

Nature of Requirement: The provision requires HUD review and approval of certain legal documents relating to mixed-finance development before a closing can occur and funds can be released. In lieu of HUD's review, and before funds can be released, the Public Housing Authority (PHA) must submit documentation which certifies, in form specified by HUD, to the accuracy and authenticity of the legal documents detailed in 24 CFR 941.610(a)(1)-(a)(7). Granting a waiver or HUD's review and allowing the PHA to certify to the validity of certain legal documents will streamline the review process and expedite closing and public housing production.

Granted By: Orlando J. Cabrera, Assistant Secretary for Public and Indian Housing.

Date Granted: June 18, 2007.

Reason Waived: The basis for the waiver was because HACM is a high performing housing authority with extensive development and mixed-finance experience. The other development partners in the project are also experienced in public housing mixed-finance development. Convent Hill is a mixed-financed transaction, and as such includes low-income housing tax credits and Federal Home Loan Bank Affordable Housing Program funds. Both of these organizations have extensive review processes and financial control mechanisms. HUD review would repeat and duplicate the activities which these processes are already performing. Convent Hill is a near duplicate of previous mixed-finance projects undertaken by HACM, including Cherry Hill and Hyland Park, both of which underwent full evidentiary document review and approval by HUD. These projects have the same ownership structure, participating parties, tax credit investor, and financial structure as Convent Hill. These justifications determine that good cause existed for granting the waiver.

Contact: Dominique Blom, Deputy Assistant Secretary for the Office of Public Housing Investments, 451 Seventh Street, SW., Room 4130, Washington, DC 20410-5000, telephone (202) 402-4181.

• Regulation: 24 CFR 982.305(c)(1) and (4).

Project/Activity: Kelso Housing Authority (KHA), Kelso, WA. The KHA requested a waiver regarding execution of housing assistance payments (HAP) contracts because of funding issues related to Tartan House, a preservation prepayment project.

Nature of Requirement: Section 982.305(c)(1) and (4) state that the Housing Choice Voucher (HCV) program HAP contract must be executed no later than 60 days from the beginning of the lease term and any contract executed after the 60 day period is void and the public housing agency (PHA) may not pay any HAP to the owner.

Granted By: Orlando J. Cabrera, Assistant Secretary for Public and Indian Housing.

Date Granted: May 16, 2007.

Reason Waived: HCV funding was originally allocated to the KHA, but coded improperly as a preservation prepayment. The reallocation of funds under the correct code caused a delay in the availability of funds to the KHA. Therefore, the KHA was unable to execute HAP contracts in a timely manner related to the approval of the units.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 982.306(d).

Project/Activity: Northwest Minnesota Multi-County Housing and Redevelopment Authority (MMCHRA), Norman County, MN. MMCHRA requested a waiver regarding renting to relatives so that an eight-member family, with no disabled members, could rent from the head of household's mother.

Nature of Requirement: Section 982.503(d) states that the public housing agency (PHA) must not approve a unit if the owner is the parent, child, grandparent, grandchild, sister, or brother of any member of the family, unless the PHA determines that approving the unit would provide a reasonable accommodation for a family member who is a person with disabilities.

Granted By: Orlando J. Cabrera, Assistant Secretary for Public and Indian Housing.

Date Granted: May 18, 2007.

Reason Waived: The MMCHRA maintained that the market area was tight and the family was unable to find other adequate housing. Without a waiver, this large family would have been unable to utilize its voucher.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 982.505(c)(3).

Project/Activity: Westbrook Housing Authority (WHA), Westbrook, ME. The WHA requested a waiver of payment standard (PS) requirements to permit it to implement reduced PSs earlier than required to avoid termination of housing assistance payments (HAP) contracts during calendar year 2007 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted By: Orlando J. Cabrera, Assistant Secretary for Public and Indian Housing.

Date Granted: April 13, 2007.

Reason Waived: The waiver was granted because this cost-saving measure would enable the WHA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 982.505(c)(3).

Project/Activity: Dauphin County Housing Authority (DCHA), Dauphin County, PA. The DCHA requested a waiver of payment standard (PS) requirements to permit it to implement reduced PSs earlier than required to avoid termination of housing assistance payments (HAP) contracts during calendar year 2007 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted By: Orlando J. Cabrera, Assistant Secretary for Public and Indian Housing.

Date Granted: April 20, 2007.

Reason Waived: The waiver was granted because this cost-saving measure would enable the DCHA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 982.505(c)(3).

Project/Activity: Glens Falls Housing Authority (GFHA), Glens Falls, NY. The GFHA requested a waiver of payment standard (PS) requirements to permit it to implement reduced PSs earlier than required to avoid termination of housing assistance payments (HAP) contracts during calendar year 2007 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted By: Orlando J. Cabrera, Assistant Secretary for Public and Indian Housing.

Date Granted: May 18, 2007.

Reason Waived: The waiver was granted because this cost-saving measure would enable the GFHA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 982.505(c)(3).

Project/Activity: Housing Authority of Thurston County (HATC), Thurston County, WA. The HATC requested a waiver of payment standard (PS) requirements to permit it to implement reduced PSs earlier than required to avoid termination of housing assistance payments (HAP) contracts during calendar year 2007 due to insufficient funding.

Nature of Requirement. Section 982.505(c)(3) states that if the amount on the PS schedule is decreased during the term of the HAP contract, the lower PS amount generally must be used to calculate the monthly HAP for the family beginning at the effective date of the family's second regular reexamination following the effective date of the decrease.

Granted By: Orlando J. Cabrera, Assistant Secretary for Public and Indian Housing.

Date Granted: May 25, 2007.

Reason Waived: The waiver was granted because this cost-saving measure would enable the HATC to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 Seventh SW., Room 4210, Washington, DC 20410; (202) 708-0477.

• Regulation: 24 CFR 982.505(d).

Project/Activity: Housing Authority of the City of Las Cruces (HACLC), Las Cruces, NM. The HACLC requested a waiver regarding exception payment standards so that it could provide a reasonable accommodation to a person with disabilities.

Nature of Requirement: Section 982.505(d) states that a public housing agency may only approve a higher payment standard for a family as a reasonable accommodation if the higher payment standard is within the basic range of 90 to 110 percent of the fair market rent (FMR) for the unit size.

Granted By: Orlando J. Cabrera, Deputy Assistant Secretary for Public and Indian Housing.

Date Granted: May 7, 2007.

Reason Waived: The applicant, who is a person with disabilities, required a wheelchair-accessible unit. The family conducted an extensive search before locating the accessible unit in which the applicant wished to remain. To provide a reasonable accommodation so that the newly admitted participant would pay no more than 40 percent of adjusted income toward the family share, the HACLC was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 982.505(d).

Project/Activity: Housing Authority of Snohomish County (HASC) Snohomish County, WA. The HASC requested a waiver regarding exception payment standards so that it could provide a reasonable accommodation to a person with disabilities.

Nature of Requirement: Section 982.505(d) states that a public housing agency may only approve a higher payment standard for a family as a reasonable accommodation if the higher payment standard is within the basic range of 90 to 110 percent of the fair market rent (FMR) for the unit size.

Granted By: Orlando J. Cabrera, Assistant Secretary for Public and Indian Housing.

Date Granted: June 13, 2007.

Reason Waived: The applicant, who is a person with disabilities, owns a manufactured home, which had been modified to meet the person's physical needs and is accessible to health care and support systems. To provide a reasonable accommodation so that the newly admitted participant would pay no more than 40 percent of adjusted income toward the family share, the HASC was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 983.51(b).

Project/Activity: Mississippi Regional Housing Authority VIII (MSRHA VIII), Gulfport, MS. The MSRHA VIII requested a waiver of competitive selection under the project-based voucher (PBV) program so that it could attach PBVs to up to seven public housing developments that have been, or will be, disposed of to a non-profit subsidiary of the agency.

Nature of Requirement: Section 983.51(b) requires either competitive selection of owner proposals or non-competitive selection of proposals under another federal, state or local government housing assistance program that was selected within the past three years.

Granted By: Orlando J. Cabrera, Assistant Secretary for Public and Indian Housing.

Date Granted: May 2, 2007.

Reason Waived: The waiver was granted because attaching PBV to these units will ensure the maintenance of long-term affordable housing in the relief and recovery efforts in the wake of Hurricane Katrina.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 983.51(b) through (d).

Project/Activity: St. Louis Housing Authority (SLHA), St. Louis, MO. The SLHA requested a waiver of competitive selection under the project-based voucher (PBV) program so that it could attach PBVs to units at Carr Square Village, a HOPE I development partially owned by the Carr Square Tenant Management Corporation (CSTMC).

Nature of Requirement: Section 983.51(b) through (d) requires either competitive selection of owner proposals or non-competitive selection of proposals under another federal, state or local government housing assistance program that was selected within the past three years, along with public notice of request for proposals and PHA notice of owner selection.

Granted By: Orlando J. Cabrera, Assistant Secretary for Public and Indian Housing.

Date Granted: June 21, 2007.

Reason Waived: The waiver was granted because attaching PBV to these units is necessary as part of the CSTMS's overall restructuring plan since PBV assistance is required to make the development financially viable and to facilitate the closing of the HOPE I grant.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 983.51(b), (c), (d) and (e).

Project/Activity: Mississippi Regional Housing Authority VIII, Gulfport, MS; Biloxi Housing Authority, Biloxi, MS; Bay St. Louis/Waveland Housing Authority, Bay St. Louis and Waveland, MS. These PHAs requested a waiver of competitive selection under the project-based voucher (PBV) program so that they could attach PBVs to their PHA-owned units to develop additional affordable housing while leveraging Community Development Block Grant funds allocated by Governor Barbour.

Nature of Requirement: Section 983.51(b), (c), (d) and (e) requires either competitive selection of owner proposals or non-competitive selection of proposals under another federal, state or local government housing assistance program that was selected within the past three years.

Granted By: Orlando J. Cabrera, Assistant Secretary for Public and Indian Housing.

Date Granted: June 11, 2007.

Reason Waived: The waiver was granted because attaching PBV to these units will ensure the maintenance of long-term affordable housing in the relief and recovery efforts in the wake of Hurricane Katrina.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 983.304(c)(2).

Project/Activity: Somerville Housing Authority (SHA), Somerville, MA. The SHA requested a waiver of this regulation so that it could charge higher rents than allowed for low-income housing tax credit (LIHTC) units under the project-based voucher (PBV) program at Capen Court since, without the requested waiver, there would be insufficient funding to finance this project.

Nature of Requirement: Section 983.304(c)(2) states that the rent to an owner for a PBV unit may not exceed the LIHTC rent as determined in accordance with the requirements of that federal program.

Granted By: Orlando Cabrera, Assistant Secretary for Public and Indian Housing.

Date Granted: April 20, 2007.

Reason Waived: This regulation was waived since the SHA will preserve these units as affordable housing for a period beyond the 10 year maximum initial term of the PBV housing assistance payments contract and a regulatory agreement with the Massachusetts Department of Housing and Community Development will likely restrict the property to low-income occupancy and affordability for at least 30 years.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 990.185(a).

Project/Activity: The Troy Housing Authority (THA), Troy, New York. The THA is contracting to Energy Performance through a term longer than the stated 12-year maximum.

Nature of Requirement: On August 8, 2005, President Bush signed into law the Energy Policy Act of 2005 (Pub. L. 109-58). Subtitle D of Public Law 109-58 addresses public housing and amends Section 9(e)(2)(C) of the United States Housing Act of 1937 by adding a new paragraph (iii) which states “Term of contract:—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: April 12, 2007.

Reason Waived: The THA is undertaking a self-developed energy project, acting as an Energy Services company, and has hired a qualified third party consultant to provide energy management expertise. THA anticipates that recommendations arising from its energy audit will incorporate a selection of energy conservation measures whose life cycle expectations and costs will exceed the 12-year regulatory limitation in 24 CFR 990.185(a). The THA anticipates that the selection of retrofits will be capable of generating adequate savings to amortize the resulting debt within the approved period of the energy performance contract. Based upon the anticipated savings and benefits to THA and its residents, this waiver grants the THA the 12-year payback period to allow up to a 20-year payback period, contingent on HUD's provisions to THA.

HUD's provisions include additional information and technical activity requirements unique to the characteristics of the project and the PHA. The purpose of the provisions is to ensure success, minimizing risk to projected savings (used to amortize the loan) and to HUD. The PHA must comply with all of HUD's provisions for the waiver to be effective. These provisions include, but not limited to information requirements, necessary for the local field office to monitor savings over the 20 year life of the loan and procurement requirement to ensure fair and open competition. The HUD provisions are also a direct response to the Office of Management and Budget concern related to the higher risk levels associated with a 20-year versus the previous limit of 12 years. HUD, through its provisions, provides an individual assessment and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4238, Washington, DC 20410-5000, telephone (202) 708-0744.

• Regulation: 24 CFR 990.185(a).

Project/Activity: Ithaca Housing Authority (IHA), Ithaca, New York. The IHA is contracting to Energy Performance through a term longer than the stated 12-year maximum.

Nature of Requirement: On August 8, 2005, President Bush signed into law the Energy Policy Act of 2005 (Pub. L. 109-58). Subtitle D of Public Law 109-58 addresses public housing and amends Section 9(e)(2)(C) of the United States Housing Act of 1937 by adding a new paragraph (iii) which states “Term of contract:—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: May 14, 2007.

Reason Waived: IHA is undertaking a self-developed energy project, acting as an Energy Services company, and has hired a qualified third party consultant to provide energy management expertise. IHA anticipates that recommendations arising from its energy audit will incorporate a selection of energy conservation measures whose life cycle expectations and cost will exceed the 12-year regulatory limit regulatory limitation in 24 CFR 990.185(a). IHA anticipates that the selection of energy conservation of retrofits will be capable for generating adequate savings to amortize the resulting debt within the approved period of the energy performance contract. Based upon the anticipated savings and benefits to IHA and its residents, the waiver granted the IHA the 12-year payback period to allow up to a 20-year payback period, contingent on HUD's provisions to IHA.

HUD's provisions include additional information and technical activity requirements unique to the characteristics of the project and the PHA. The purpose of the provisions is to ensure success, minimizing risk to projected savings (used to amortize the loan) and to HUD. The PHA must comply with all of HUD's provisions for the waiver to be effective. These provisions may include, but not limited to information requirements, necessary for the local field office to monitor savings over the 20 year life of the loan and procurement requirement to ensure fair and open competition. The HUD provisions are also a direct response to the Office of Management and Budget concern related to the higher risk levels associated with a 20-year versus the previous limit of 12 years. HUD, through its provisions, provides an individual assessment and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4238, Washington, DC 20410-5000, telephone (202) 708-0744.

• Regulation: 24 CFR 990.185(a).

Project/Activity: Providence Housing Authority (PHA), Providence, Rhode Island. The PHA is contracting to Energy Performance through a term longer than the stated 12-year maximum.

Nature of Requirement: On August 8, 2005, President Bush signed into law the Energy Policy Act of 2005 (Pub. L. 109-58). Subtitle D of Public Law 109-58 addresses public housing and amends Section 9(e)(2)(C) of the United States Housing Act of 1937 by adding a new paragraph (iii) which states “Term of contract:—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: May 18, 2007.

Reason Waived: The PHA is undertaking a self-developed energy project, acting as an Energy Services Company, and has hired a third party consultant to provide energy management expertise. PHA anticipates that recommendations arising from its energy audit will incorporate a selection of energy conservation measures whose life cycle expectations and cost will exceed the 12-year regulatory limitation in 24 CFR 990.185(a). PHA anticipates that the selection of retrofits will be capable of generating adequate savings to amortize the resulting debt within the approved period of the energy performance contract. Based upon the anticipated savings and benefits to PHA and its residents, the waiver granted the PHA the 12-year payback period to allow up to a 20-year payback period, contingent on HUD's provisions to PHA.

HUD's provisions include additional information and technical activity requirements unique to the characteristics of the project and the PHA. The purpose of the provisions is to ensure success, minimizing risk to projected savings (used to amortize the loan) and to HUD. The PHA must comply with all of HUD's provisions for the waiver to be effective. These provisions may include, but not limited to information requirements, necessary for the local field office to monitor savings over the 20 year life of the loan and procurement requirement to ensure fair and open competition. The HUD provisions are also a direct response to the Office of Management and Budget concern related to the higher risk levels associated with a 20-year versus the previous limit of 12 years. HUD, through its provisions, provides an individual assessment and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4238, Washington, DC 20410-5000, telephone (202) 708-0744.

• Regulation: 24 CFR 990.185(a).

Project/Activity: The Schenectady Housing Authority (SHA), Schenectady, New York. The SHA is contracting to Energy Performance through a term longer than the stated 12-year maximum.

Nature of Requirement: On August 8, 2005, President Bush signed into law the Energy Policy Act of 2005 (Pub. L. 109-58). Subtitle D of Public Law 109-58 addresses public housing and amends Section 9(e)(2)(C) of the United States Housing Act of 1937 by adding a new paragraph (iii) which states “Term of contract—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: June 28, 2007.

Reason Waived: SHA is undertaking a self-developed energy project, acting as an Energy Services Company, and has hired a qualified third party consultant to provide energy management expertise. SHA anticipates that recommendations arising from its energy audit will incorporate a selection of energy conservation measures whose life cycle expectations and cost will exceed the 12-year regulatory limit regulatory limitation in 24 CFR 990.185(a). SHA anticipates that the selection of energy conservation of retrofits will be capable of generating adequate savings to amortize the resulting debt within the approved period for the energy performance contract. Based upon the anticipated savings and benefits to SHA and its residents, the waiver granted the SHA the 12-year payback period to allow up to a 20-year payback period, contingent on HUD's provisions to SHA.

HUD's provisions include additional information and technical activity requirements unique to the characteristics of the project and the PHA. The purpose of the provisions is to ensure success, minimizing risk to projected savings (used to amortize the loan) and to HUD. The PHA must comply with all of HUD's provisions for the waiver to be effective. These provisions may include, but not limited to information requirements, necessary for the local field office to monitor savings over the 20 year life of the loan and procurement requirement to ensure fair and open competition. The HUD provisions are also a direct response to the Office of Management and Budget concern related to the higher risk levels associated with a 20-year versus the previous limit of 12 years. HUD, through its provisions, provides an individual assessment and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4238, Washington, DC 20410-5000, telephone (202) 708-0744.

[FR Doc. E7-18120 Filed 9-17-07; 8:45 am]

BILLING CODE 4210-67-P